ENVIRONMENTAL PROTECTION AGENCY

[EPA-R08-SFUND-2024-0183; FRL-12045-01-R8]

Administrative Settlement Agreement, United States, the State of Colorado, Settling Parties and Brannan Sand and Gravel Company, LLC, Purchaser

AGENCY: Environmental Protection Agency (EPA).

ACTION: Notice of proposed agreement; request for public comment.

SUMMARY: Notice is hereby given by the U.S. Environmental Protection Agency (EPA), Region 8, of an Administrative Settlement Agreement for Response Actions by Prospective Purchaser (“Settlement”) is entered into voluntarily by the United States of America (“United States”) on behalf of the United States Environmental Protection Agency (“EPA”), the State of Colorado (“State”), and the prospective purchaser, Brannan Sand and Gravel Company, LLC (“Purchaser”). This Settlement provides for the performance of response actions by Purchaser and the payment for certain response costs incurred by the United States and the State at or in connection with property located in unincorporated Adams County, Colorado, known as the Broderick Wood Products Superfund Site (“Site”). Purchaser agrees to undertake all actions required by this Settlement. In exchange for Purchaser's performance of the work and payment for certain response costs, this Settlement resolves Purchaser's potential CERCLA liability.

DATES: Comments must be submitted on or before July 26, 2024.

ADDRESSES: The proposed agreement and additional background information relating to the agreement will be available upon request and will be posted at https://www.epa.gov/superfund. Comments and requests for an electronic copy of the proposed agreement should be addressed to Natalie Timmons, Enforcement Specialist, Superfund and Emergency Management Division, Environmental Protection Agency—Region 8, Mail Code 8SEM-PAC, 1595 Wynkoop Street, Denver, Colorado 80202, telephone number: (303) 312-6385 or email address: timmons.natalie@epa.gov and should reference the Broderick Wood Products Superfund Site.

You may also send comments, identified by Docket ID No. EPA-R08-SFUND-2024-0183 to https://www.regulations.gov. Follow the online instructions for submitting comments.

FOR FURTHER INFORMATION CONTACT: Kayleen Castelli, General Attorney, Office of Regional Counsel, Environmental Protection Agency, Region 8, Mail Code 8 ORC-LEB-CES_1595 Wynkoop, Denver, Colorado 80202, telephone number: (303) 312-6174, email address: castelli.kayleen@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Aaron Urdiales,
Division Director, Superfund and Emergency Management Division, Region 8.

[FR Doc. 2024-13952 Filed 6-25-24; 8:45 am]

BILLING CODE 6560-50-P